ENVIRONMENTAL PROTECTION AGENCY

[FRL-8043-4]

Proposed CERCLA Administrative Agreement for Recovery of Past Response Costs; Stringfellow Acid Pits Superfund Site

AGENCY: Environmental Protection Agency (EPA).

ACTION: Notice; request for public comment.

SUMMARY: In accordance with section 122(i) of the Comprehensive Environmental Response, Compensation, and Liability Act, as amended by the Superfund Amendments and Reauthorization Act (“CERCLA”), 42 U.S.C. 9622(i), notice is hereby given of a proposed Agreement for Recovery of Past Response Costs (“Agreement,” Region 9 Docket No. 9-2006-0004) pursuant to section 122(h) of CERCLA concerning the Stringfellow Acid Pits Superfund Site (the “Site”), located near Glen Avon, California. The respondent to the Agreement is the state of California (the “State”).

The issues resolved in the Agreement stem from the fact that, from 1983 to 1996, the Agency provided federal funds to the State through a State Superfund Contract as a cooperative means to further the remediation of the Site. Section 104(c)(3) of CERCLA requires that, in such a cooperative agreement, the State shall nonetheless be responsible for 10% of the remedial action costs, or 50-100% of the total response costs if the State was an “operator” of the Site. Because the State was involved in selecting the original location and management techniques for the Site as a hazardous waste disposal facility, in 1995, a federal district court ruled that the State's role at the facility made it a liable “operator” for the purpose section 107(a) of CERCLA. This court ruling potentially affected the share of response costs for which the State would be liable pursuant to section 104(c)(3) of CERCLA. In November 2004, the Agency's Office of Inspector General concluded an audit of the assistance accounts accessed by the State through the State Superfund Contract and made recommendations on the balance due to the State for its response work, but also recommended that the State was not entitled to reimbursement for substantial claims for interest accrued on its incurred costs. The Office of Inspector General did not consider in its recommendation the State's potential liability as an “operator” of the Site.

Through the proposed Agreement, the Agency will reimburse the State in an amount consistent with the recommendations of the Office of the Inspector General, and will not seek additional costs from the State for its potential liability as an “operator” of the Site. The State covenants to accept the settlement as a final determination of the amount of its reimbursement, precluding further claims for recovery of the interest accrued on the State's response costs. A portion of the payments from the Agency to the State will go specifically toward further investigation and response to the recently discovered perchlorate contamination at the Site.

For thirty (30) days following the date of publication of this Notice, the Agency will receive written comments relating to the proposed Agreement. The Agency's response to any comments will be available for public inspection at the Agency's Region IX offices, located at 75 Hawthorne Street, San Francisco, California 94105.

DATES: Comments must be submitted on or before April 10, 2006.

ADDRESSES: The proposed Agreement may be obtained from Judith Winchell, Docket Clerk, telephone (415) 972-3124. Comments regarding the proposed Agreement should be addressed to Judith Winchell (SFD-7) at EPA Region IX, 75 Hawthorne Street, San Francisco, California 94105, and should reference the Stringfellow Acid Pits Superfund Site, Glen Avon, California, and USEPA Docket No. 9-2006-0004.

FOR FURTHER INFORMATION CONTACT: Andrew Helmlinger, Office of Regional Counsel, telephone (415) 972-3904, USEPA Region IX, 75 Hawthorne Street, San Francisco, California 94105.

Dated: February 28, 2006.
Elizabeth Adams,
Acting Director, Superfund Division.

[FR Doc. 06-2245 Filed 3-8-06; 8:45 am]

BILLING CODE 6560-50-M